DEPARTMENT OF ENERGY

Federal Energy Regulatory Commission

[Docket No. CP01-62-000]

Northwest Pipeline Corporation; Notice of Application

January 9, 2001.

Take notice that on January 5, 2001, Northwest Pipeline Corporation (Northwest), 295 Chipeta Way, Salt Lake City, Utah 84158, filed in Docket No. CP01-62-000 an application pursuant to Section 7(c) of the Natural Gas Act for a blanket certificate of public convenience and necessity authorizing Northwest to install and operate, on a temporary and limited basis, three existing portable compressor units to provide incremental horsepower and physical capacity at its existing Kemmerer, Pegram and Lava Hot Springs Compressor Stations in Wyoming and Idaho all as more fully set forth in the application which is on file with the Commission and open to public inspection. This filing may be viewed on the web at http://www.ferc.fed.us/online/rims.htm (call 202-208-2222 for assistance).

Northwest proposes to establish an additional secondary function for its three portable compressor units that current have a primary function of temporarily replacing out-of-service permanent compressor units.¹ Specifically, when the temporary units are not required for their primary function, Northwest will operate the units to temporarily supplement northflow capacity through the Kemmerer, Wyoming to Pegram, Idaho segment (the Kemmerer Corridor) of its system. The increased northflow capacity will reduce the level of operational flow orders issued to provide sufficient displacement capacity to accommodate firm contractual obligations through the Kemmerer Corridor. Northwest states that the temporary supplemental compression will increase the physical northflow capacity through the Kemmerer Corridor by about 22 MDth per day.

¹ Two of the portable compressor units have a current secondary function by virtue of Northwest's blanket authority to operate the portable units at two compressor sites in Washington state when necessary to augment southflow in order to offset displacement capacity shortfalls.

Any questions regarding the application should be directed to Gary K. Kotter, Manager, Certificates, Northwest Pipeline Corporation, P.O. Box 58900, Salt Lake City, Utah 84158-0900 at 801-584-7117 or at garold.k.kotter@williams.com.

There are two ways to become involved in the Commission's review of this project. First, any person wishing to obtain legal status by becoming a party to the proceedings for this project should, on or before January 19, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents field by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents field by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments and protests may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-1137 Filed 1-12-01; 8:45 am]

BILLING CODE 6717-01-M